NATIONAL SCIENCE FOUNDATION

Notice of Permit Modification Request Received Under the Antarctic Conservation Act of 1978

AGENCY: National Science Foundation.

ACTION: Notice of permit modification request received under the Antarctic Conservation Act of 1978, Public Law 95-541.

SUMMARY: Notice is hereby given that the National Science Foundation (NSF) has received a request to modify a permit issued to conduct activities regulated under the Antarctic Conservation Act of 1978 (Pub. L. 95-541; Code of Federal Regulations Title 45, Part 670).

DATES: Interested parties are invited to submit written data, comments, or vies with respect to the permit modification by March 21, 2011. The permit modification request may be inspected by interested parties at the Permit Office, address below.

ADDRESSES: Comments should be addressed to Permit Office, Room 755, Office of Polar Programs, National Science Foundation, 4201 Wilson Boulevard, Arlington, Virginia 22230.

FOR FURTHER INFORMATION CONTACT: Polly A. Penhale or Nadene G. Kennedy at the above address or (703) 292-8030.

Description of Permit Modification Requested

On July 21, 2008, the National Science Foundation issued a waste management permit (2009 WM-001) to Quark Expeditions, Inc. of Waterbury, VT after positing a notice in the June 9, 2008 Federal Register. Public comments were not received. The issued permit was for use of emergency provisions ashore during passenger shore excursions should weather deteriorate and passengers are required to stay ashore for an extended period of time. Emergency provisions may include tents, sleeping bags, cooking stoves and a car-type battery for long-range VHR radio communication. The applicant requests to amend their waste permit to including overnight camping on several of their trips to the Antarctic Peninsula.

The duration of the requested modification is coincident with the current permit which expires on March 31, 2013.

Nadene G. Kennedy,
Permit Officer.

[FR Doc. 2011-3674 Filed 2-17-11; 8:45 am]

BILLING CODE 7555-01-P